DEPARTMENT OF JUSTICE

[AAG/A Order No. 013-2005]

Privacy Act of 1974, Systems of Records

AGENCY: Environment and Natural Resources Division, DOJ.

ACTION: Notice of modifications to systems of records.

SUMMARY: Under the provisions of the Privacy Act of 1974 (5 U.S.C. 552a), the Environment and National Resources Division (ENRD), Department of Justice, proposes to make minor modifications to two systems of records. The first system, entitled “Appraisers, Approved Attorneys, Abstractors and Title Companies Files Database System (Justice/ENRD-001),” was last published in the Federal Register on February 23, 2000 (65 FR 8989). The second system entitled “Environment and Natural Resources Division Case and Related Files System (Justice/ENRD-003),” was last published in the Federal Register on February 23, 2000 (65 FR 8990). The modifications involve a change to the name of a Section within ENRD; and a change in the name of an Office serving as a System Manager.

These minor changes do not require notification to the Office of Management and Budget or Congress. The changes will be effective on October 20, 2005. Questions regarding the modifications may be directed to Mary Cahill, Management Analyst, Management and Planning Staff, Justice Management Division, National Place Building, Room 1400, Department of Justice, Washington, DC 20530.

The modifications to the system descriptions are set forth below.

Dated: October 12, 2005.
Paul R. Corts,
Assistant Attorney General for Administration.

JUSTICE/ENRD-001

System Name:

Appraisers, Approved Attorneys, Abstractors and Title Companies Files Database System.

* * * * *

Notification Procedure:

Address inquiries to the FOIA/Privacy Act Coordinator; Environment and Natural Resources Division; Law and Policy Section; PO Box 4390; Ben Franklin Station; Washington, DC 20044-4390.

Record Access Procedures:

Submit in writing all requests for access, and clearly mark the envelope and letter, “Privacy Act Access Request.” Include in the request your full name, date, and place of birth, case caption, or other information which may assist in locating the records you seek. Also include your notarized signature and a return address. Direct all access requests to the FOIA/Privacy Act Coordinator; Environment and Natural Resources Division; Law and Policy Section; PO Box 4390, Ben Franklin Station; Washington, DC 20044-4390.

* * * * *

JUSTICE/ENRD-003

System Name:

Environment and Natural Resources Division Case and Related Files System.

* * * * *

System Manager(s) and Address:

The System Manager is the Assistant Director, Office of Information Management, in coordination with the Office of Planning and Management's Records Management Unit.

Notification Procedure:

Address inquiries to the FOIA/Privacy Act Coordinator; Environment and Natural Resources Division; Law and Policy Section; PO Box 4390; Ben Franklin Station; Washington, DC 20044-4390.

Record Access Procedures:

* * * [Paragraph remains the same, except to change last sentence of paragraph to read as follows.]

Direct all access requests to the FOIA/Privacy Act Coordinator; Environment and Natural Resources Division; Law and Policy Section; PO Box 4390, Ben Franklin Station, Washington DC 20044-4390.

* * * * *

[FR Doc. 05-20997 Filed 10-19-05; 8:45 am]

BILLING CODE 4410-15-P